DEPARTMENT OF COMMERCE

International Trade Administration, Commerce

Export Trade Certificate of Review

ACTION: Notice of Issuance of an Amended Export Trade Certificate of Review, Application No. 89-8A016.

SUMMARY: The Department of Commerce issued an amended Export Trade Certificate of Review to The Geothermal Energy Association (“GEA”) on November 13, 2000. Notice of issuance of the original Certificate was published in the Federal Register on February 9, 1990 (55 FR 4647).

FOR FURTHER INFORMATION CONTACT: Morton Schnabel, Director, Office of Export Trading Company Affairs, International Trade Administration, (202) 482-5131. This is not a toll-free number.

SUPPLEMENTARY INFORMATION: Title III of the Export Trading Company Act of 1982 (15 U.S.C. Sections 4001-21) authorizes the Secretary of Commerce to issue Export Trade Certificates of Review. The regulations implementing Title III are found at 15 CFR part 325 (1998).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 89-8A016, was issued to Geothermal Energy Association on February 5, 1990 (55 FR 4647, February 9, 1990), and last amended on November 20, 1996 (61 FR 60092, November 26, 1996).

GEA's Export Trade Certificate of Review has been amended to:

1. Add each of the following companies as a new “Member” of the Certificate within the meaning of section 325.2(1) of the Regulations (15 CFR 325.2(1)): Power Engineers, Inc., PO Box 1066, 3940 Glenbrook Drive, Hailey, ID 83333; BIBB & Associates, Inc., 201 South Lake Ave., Suite 300, Pasadena, CA 91101;

2. Change the listing of the company name for the current Member “Maxwell Laboratories” to the new listing “Maxwell Technologies, Inc.”.

3. Delete the following as members of the Certificate: Air Drilling Services, Inc.; American Line Builders, Inc.; Ballew Tool Company; Bridwell Controls; Dames & Moore, Inc.; Baker Hughes Oilfield Operations, Inc., d.b.a. Baker Hughes Inteq; Exergy, Inc.; Geothermal Power Company, Inc.; H & H Oil Tool Company, Inc.; C.E. Holt Company; Ingram Cactus Company; Kern Steel Fabrication, Inc.; Nabors Drilling USA, Inc.; Resource Group; Union Oil of California, d.b.a. UNOCAL and/or UNOCAL Corporation; M-I Drilling Fluids L.L.C., and its controlling entity, Smith International Acquisition Corp. and Smith International, Inc.

4. Remove the following restriction from the Certificate: Any exchange or discussion of the types of information set forth in Paragraph C. 13 (b),(c),(d) and (e) that would involve (1) drill bits, roller reamers, stabilizers, hole enlargers, pilot mills, watermelon mills, scrapers or wellhead changing equipment and (2) Smith International Inc. (including entities controlled by it: M-I Drilling Fluids L.L.C. and Smith International Acquisition Corp.) and Baker Hughes Oilfield Operations, Inc. (formerly Baker Hughes INTEQ, Inc.), shall be subject to the following limitations:

1. The exchange or discussion shall take place only to meet the requirements of an actual or potential bona fide export transaction; and

2. Each exchange or discussion shall take place in the presence of legal counsel who will advise participants on antitrust matters and who shall take notes (or arrange to have notes taken) of the exchange or discussion. Upon request of the Secretary of Commerce on his own behalf or on behalf of the Attorney General, such notes shall be made available to the Secretary of Commerce and/or the Attorney General.

5. Add the following term and condition to the Certificate: Membership in this Certificate is terminated when a company ceases to be a member of the Geothermal Energy Association (GEA), written notice of which GEA shall promptly transmit to the Secretary of Commerce and the Attorney General. A Member may also withdraw from coverage under this Certificate at any time by giving written notice to GEA, a copy of which GEA shall promptly transmit to the Secretary of Commerce and the Attorney General.

A copy of the amended certificate will be kept in the International Trade Administration's Freedom of Information Records Inspection Facility, Room 4102, U.S. Department of Commerce, 14th Street and Constitution Avenue, N.W., Washington, D.C. 20230.

Dated: December 1, 2000.
Morton Schnabel,
Director, Office of Export Trading Company Affairs.

[FR Doc. 00-31403 Filed 12-8-00; 8:45 am]

BILLING CODE 3510-DR-P